ENVIRONMENTAL PROTECTION AGENCY

40 CFR Part 52

[EPA-R07-OAR-2017-0416; FRL-9972-76—Region 7]

Approval of Iowa's Air Quality Implementation Plan; Muscatine Sulfur Dioxide Nonattainment Area; Availability of Supplemental Information and Reopening of the Comment Period

AGENCY: Environmental Protection Agency (EPA).

ACTION: Proposed rule; availability of supplemental information and reopening of the comment period.

SUMMARY: On August 24, 2017, the Environmental Protection Agency (EPA) published a notice of proposed rulemaking to approve the Iowa State Implementation Plan (SIP) revision for attaining the 1-hour sulfur dioxide (SO2) primary National Ambient Air Quality Standard (NAAQS) for the Muscatine nonattainment area (herein called a “nonattainment plan”) in the Federal Register. EPA received several comments, including one suggesting that insufficient information was provided in the docket to allow the reviewer the ability to fully evaluate the nonattainment plan and EPA's proposed action to approve it and another comment that insufficient emissions inventory information for the 2018 attainment year was provided for the action. As a result, we are: Providing additional information in the docket and clarifying that all information, including files that are too large to be provided in the docket, are available upon request; providing an updated 2018 projected emissions inventory; and reopening the public comment period to afford stakeholders an opportunity to comment on these specific additions of information only. EPA has updated Document A, “Index of Docket Documents” in the docket to this rulemaking. EPA will address all comments received on the original proposal and on this supplemental action in our final action.

DATES: The comment period for the proposed rule published on August 24, 2017 (82 FR 40086) (FRL-9966-60-Region 7) is reopened. Comments, identified by docket identification (ID) number EPA-RO7-OAR-2017-0416 must be received on or before February 8, 2018.

ADDRESSES: Submit your comments pertaining to this supplemental action, identified by Docket ID No. EPA-R07-OAR-2017-0416 to https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Tracey Casburn, Environmental Protection Agency, Air Planning and Development Branch, 11201 Renner Boulevard, Lenexa, Kansas 66219 at (913) 551-7016, or by email at casburn.tracey@epa.gov.

SUPPLEMENTARY INFORMATION: Throughout this document “we,” “us,” and “our” refer to EPA. This section provides additional information by addressing the following:

I. What action is EPA taking?

II. What is the background for this action?

III. Statutory and Executive Order Reviews

I. What action is EPA taking?

On August 24, 2017, at 82 FR 40086, EPA proposed to approve a state implementation plan (SIP) revision submitted by the state of Iowa for attaining the 1-hour SO2 NAAQS for the Muscatine nonattainment area. EPA received several comments on the original proposal, including one suggesting that insufficient information was provided in the docket to allow the reviewer the ability to fully evaluate the nonattainment plan and the basis of EPA's proposed action to approve it. As a result, in this supplemental action, EPA is providing additional information in the docket for the proposed action and clarifying that, especially in the case of files too large to post in the docket, this information is available upon request. These large files include modeling files utilized to support the nonattainment plan. EPA also received a comment that the SIP submittal, and EPA's proposed approval of the nonattainment plan, did not include adequate emissions inventory information for the 2018 attainment year. As a result, EPA is providing updated 2018 projected emissions inventory information for the proposed action. EPA is soliciting comment only regarding the information added by this document and its relationship to EPA's proposed SIP approval. That is, at this time, EPA is soliciting comment only on the newly docketed information, including modeling files which can be obtained upon request, and how they relate to EPA's proposed action. We will address all comments received on the original proposal and new comments submitted in response to this action in our final rulemaking action.

II. What is the background for this action?

As discussed in EPA's original August 24, 2017, proposal (82 FR 40086), on April 23, 2014, the EPA issued recommended guidance for meeting the statutory requirements in SO2 SIPs, in a document entitled, “Guidance for 1-Hour SO2 Nonattainment Area SIP Submissions,” (April 2014 guidance) available at https://www.epa.gov/sites/production/files/2016-06/documents/20140423guidance_nonattainment_sip.pdf. In this guidance the EPA described the statutory requirements for a complete nonattainment area SIP, which includes an accurate emissions inventory of current emissions for all sources of SO2 within the nonattainment area.

Section 172(c)(3) of the CAA requires that the state's nonattainment plan include a comprehensive, accurate, current inventory of actual emissions from all sources of the relevant pollutant or pollutants in such area, including such periodic revisions as the Administrator may determine necessary to assure that the requirements of part D of title I of the CAA are met. Section 172(c)(4) of the CAA requires that the state's nonattainment plan expressly identify and quantify the emissions, if any, of any such pollutant or pollutants which will be allowed, in accordance with section 173(a)(1)(B) of the CAA, from the construction and operation of major new or modified stationary sources in each such area. The plan shall demonstrate to the satisfaction of the Administrator that the emissions quantified for this purpose will be consistent with the achievement of reasonable further progress and will not interfere with attainment of the applicable NAAQS by the applicable attainment date.

The emissions inventory and source emission rate data for an area serve as the foundation for air quality modeling and other analyses that enable states to: (1) Estimate the degree to which different sources within a nonattainment area contribute to violations within the affected area; and (2) assess the expected improvement in air quality within the nonattainment area due to the adoption and implementation of control measures. As noted above, the state must develop and submit to EPA a comprehensive, accurate and current inventory of actual emissions from all sources of SO2 emissions in each nonattainment area, as well as any sources located outside the nonattainment area which may affect attainment in the area. See the April 2014 guidance.

The base year inventory establishes a baseline that is used to evaluate emissions reductions achieved by the control strategy and to assess reasonable further progress requirements. The state's nonattainment SIP noted that, at the time, the most recent and available triennial inventory year was 2011, and the stated found that it served as a suitable base year. Table 1 provides the baseline 2011 SO2 emissions inventory data for sources within and outside of the nonattainment the area (data have been rounded to the nearest whole number). It is important to note that emissions from the onroad mobile, nonroad mobile, area source and fire source categories are for the entire Muscatine County and not just the nonattainment area which is a portion of the county. Emissions from these source categories are approximately 0.11 percent of the total SO2 emissions for the nonattainment area.

Table 1—2011 Base Line Emission Inventory for the Muscatine, IA Nonattainment Area
Base line emissions inventory for the Muscatine NAA | Base line emissions inventory for the Muscatine NAA: Facility | Base line emissions inventory for the Muscatine NAA: 2011 SO2 Emissions (tpy)
Inside of the NAA | Grain Processing Corporation | 10,810
| Muscatine Power and Water | 2,374
| Monsanto | 537
| HNI Corp.—North Campus | <1
| HNI Corp.—Central Campus | <1
| H.J. Heinz L.P | <1
| Union Tank Car Co | <1
Outside of the NAA | Louisa Generating Station | 7,304
All of Muscatine County | Onroad Mobile | 3
| Nonroad Mobile | 2
| Area Sources | 10
| Fires | 9
Total |  | 21,049

The state's nonattainment SIP provided a 2018 projected emissions inventory only for the stationary sources that would be controlled under the SIP (Grain Processing Corporation, Muscatine Power and Water and Monsanto); the state's 2018 projected emissions are provided in table 2. As noted in EPA's proposal, the inventory was developed assuming each SO2 source operates 8,760 hours per year at its permitted maximum allowable emission rate.

Table 2—Projected 2018 Allowable Annual SO2 Emissions From Control Strategy Sources From the Nonattainment Plan
Projected 2018 emissions for the controlled sources: Facility | Projected 2018 emissions for the controlled sources: 2018 SO2 Emissions (tpy)
Grain Processing Corporation | 167
Muscatine Power and Water | 5,051
Monsanto | 1,196

In this supplemental document, EPA is providing an update to the state's 2018 projected emissions inventory for public inspection. The updated 2018 projected emissions inventory includes: Emissions from Louisa Generating Station (LGS) located in nearby Louisa County (presented as a potential to emit (PTE) level as provided by the state); emissions from the less than 1 ton per year (tpy) point sources that were included in the baseline emission inventory; and emissions from the area source, fire, nonroad mobile, and onroad mobile source categories. Tables 3 through 6 provide information on how EPA completed the 2018 projections from the area source, fire, nonroad mobile, and onroad mobile source categories as well as the less than 1 tpy point sources. A summary of the 2018 projected emissions inventory is provided in table 7.

As with the state's 2011 baseline emissions inventory, the fire, nonroad mobile, onroad mobile and area source emissions are county-wide and not specific to the partial Muscatine County nonattainment area. EPA increased the emissions based on population growth factors. In order to complete these projections, EPA first gathered population projections for Muscatine county, as seen in table 3.¹

¹ http://www.iowadatacenter.org/datatables/CountyAll/co2010populationprojections20002040.pdf.

Table 3—Population Growth Data for Muscatine County
Population projections
2010 | 42,760
2015 | 43,453
2020 | 44,225

Next, EPA developed growth factors by computing population ratios by comparing the projected 2020 population to the 2010 population and then comparing the 2020 population to the 2015 population, as provided in table 4.

Table 4—2018 Growth Factors
2018 Growth factors
1.03 | 2020/2010
1.02 | 2020/2015

Then, EPA downloaded the 2011 and 2014 emissions from the National Emissions Inventory (NEI) and multiplied the NEI values by the growth factors to calculate a 2018 maximum projection value, as provided in table 5. That is, EPA multiplied the 2011 NEI base year emissions by the 2018 growth factor of 1.03 and the 2014 NEI base year emissions by the 2018 growth factor of 1.02, then selected the highest estimate for each source category as the 2018 maximum projected emissions (data have been rounded to the nearest whole number).

Table 5—2018 Sulfur Dioxide Emissions Projections Muscatine County Iowa
[Tons]
2018 Sulfur dioxide emissions projections Muscatine County Iowa (tons) | 2018 Sulfur dioxide emissions projections Muscatine County Iowa (tons): 2011 a | 2018 Sulfur dioxide emissions projections Muscatine County Iowa (tons): 2014 b | 2018 Sulfur dioxide emissions projections Muscatine County Iowa (tons): 2018 (2011) | 2018 Sulfur dioxide emissions projections Muscatine County Iowa (tons): 2018 (2014) | 2018 Sulfur dioxide emissions projections Muscatine County Iowa (tons): 2018 Maximum
Fire | 9 | 13 | 9 | 13 | 13
Area Sources | 10 | 5 | 10 | 5 | 10
Nonroad Mobile c | 2 | 1 | 2 | 1 | 2
Onroad Mobile | 3 | 4 | 3 | 4 | 4
a 2011NEIV2.
b 2014NEIV1.
c Marine/Aircraft/Rail emissions were included in the nonroad category, rather than area source category for 2011.

In order to project the 2018 emissions for the less than 1 tpy sources provided in the 2011 baseline emission inventory (HNI Corporation—North and Central Campuses, H.J. Heinz, L.P., and Union Tank Car Co.—Muscatine), EPA selected the highest emissions from the 2008 to 2015 time period as the sources' projected 2018 emissions, table 6. The total of the county's nonroad mobile, onroad moble, fire and area source category projected 2018 emissions would be about .13 percent of the partial county nonattainment area's total emissions).²

² The total projected 2018 emissions includes LGS at its projected PTS in 2018, 15,188. It is expected that the actual emissions from this source in 2018 would be much lower.

Table 6—Projected 2018 SO2 Emissions for the Small Uncontrolled Sources (tpy) in the Muscatine County Iowa Nonattainment Area
Projected 2018 emissions from the less than 1 ton per year (tpy) sources in the Muscatine NAA: Facility name | Projected 2018 emissions from the less than 1 ton per year (tpy) sources in the Muscatine NAA: 2008 | Projected 2018 emissions from the less than 1 ton per year (tpy) sources in the Muscatine NAA: 2009 | Projected 2018 emissions from the less than 1 ton per year (tpy) sources in the Muscatine NAA: 2010 | Projected 2018 emissions from the less than 1 ton per year (tpy) sources in the Muscatine NAA: 2011 | Projected 2018 emissions from the less than 1 ton per year (tpy) sources in the Muscatine NAA: 2012 | Projected 2018 emissions from the less than 1 ton per year (tpy) sources in the Muscatine NAA: 2013 | Projected 2018 emissions from the less than 1 ton per year (tpy) sources in the Muscatine NAA: 2014 | Projected 2018 emissions from the less than 1 ton per year (tpy) sources in the Muscatine NAA: 2015 | Projected 2018 emissions from the less than 1 ton per year (tpy) sources in the Muscatine NAA: 2018 Projected
HNI Corporation—North Campus | 0.06 | 0.07 | 0.08 | 0.07 | 0.11 | 0.03 | 0.03 | 0.08 | 0.11
HNI Corporation—Central Campus | 0.04 | 0.01 | 0.04 | 0.01 | 0.05 | 0.04 | 0.04 | 0.05 | 0.05
H.J. Heinz, L.P | 0.06 | 0.03 | 0.06 | 0.05 | 0.06 | 0.06 | 0.04 | 0.06 | 0.06
Union Tank Car Co.—Muscatine | 0 | 0.01 | 0.01 | 0.01 | 0.01 | 0.01 | 0.01 | 0.02 | 0.02

Additionally, there is a large source outside of the nonattainment area, LGS, that was included in the state's 2011 baseline emission inventory. On October 12, 2017, the state submitted, via email, the 2018 potential to emit (PTE) from LGS equaling approximately 15,188 tpy. The email has been added to the docket for public inspection. Table 7 provides a summary of the projected 2018 emissions for the nonattainment area, and that summary includes LGS at its PTE. However, after reviewing LGS's operating history from 2012 to 2016 we expect that the facility will emit considerably less SO2 emissions than its PTE in 2018. Table 8 provides the annual SO2 emissions from LGS from 2012 to 2016 as reported to EPA's Clean Air Markets Division.³

³ Data reported to the CAMD shows that LGS has not operated in a manner to allow for SO2 emissions approaching its PTE (15,188) since 2008.

Table 7—Updated 2018 Emissions Inventory Summary
2018 Projected emissions inventory for the Muscatine NAA | 2018 Projected emissions inventory for the Muscatine NAA: Facility | 2018 Projected emissions inventory for the Muscatine NAA: 2018 SO2 Emissions (tpy)
Inside of the NAA | Grain Processing Corporation | 167
| Muscatine Power and Water | 5,051
| Monsanto | 1,196
| HNI Corp.—North Campus | 0.11
| HNI Corp.—Central Campus | 0.05
| H.J. Heinz L.P | 0.06
| Union Tank Car Co | 0.02
Outside of the NAA | Louisa Generating Station | 15,188
All of Muscatine County | Onroad Mobile | 4
| Nonroad Mobile | 2
| Area Sources | 10
| Fires | 13
Total |  | 21,631

Table 8—Louisa Generating Station SO2 Annual Emissions Data, 2012-2016 (CAMD)
Louisa Generating Station SO2 emissions, 2012-2016: Year | Louisa Generating Station SO2 emissions, 2012-2016: 2012 | Louisa Generating Station SO2 emissions, 2012-2016: 2013 | Louisa Generating Station SO2 emissions, 2012-2016: 2014 | Louisa Generating Station SO2 emissions, 2012-2016: 2015 | Louisa Generating Station SO2 emissions, 2012-2016: 2016
Annual SO2 Emissions | 8743 | 8285 | 8763 | 6096 | 5129

The EPA is providing the updated 2018 projected emissions inventory information for public inspection and in support of the Agency's previous proposal to determine that the state has met the requirements of CAA section 172(c)(3) and 172(c)(4).

III. Statutory and Executive Order Reviews

Under Executive Order 12866 (58 FR 51735, October 4, 1993), this action is not a “significant regulatory action” and therefore is not subject to review under Executive Orders 12866 and 13563 (76 FR 3821, January 21, 2011). This action is not subject to review under Executive Order 13771 (82 FR 9339, February 2, 2017) regulatory action because SIP approvals are exempted under Executive Order 12866. This action is also not subject to Executive Order 13211, “Actions Concerning Regulations That Significantly Affect Energy Supply, Distribution, or Use” (66 FR 28355, May 22, 2001). This action merely proposes to approve state law as meeting Federal requirements and imposes no additional requirements beyond those imposed by state law. Accordingly, the Administrator certifies that this rulemaking will not have a significant economic impact on a substantial number of small entities under the Regulatory Flexibility Act (5 U.S.C. 601 et seq.). Because this rulemaking would approve pre-existing requirements under state law and does not impose any additional enforceable duty beyond that required by state law, it does not contain any unfunded mandate or significantly or uniquely affect small governments, as described in the Unfunded Mandates Reform Act of 1995 (Pub. L. 104-4).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action also does not have Federalism implications because it does not have substantial direct effects on the States, on the relationship between the national government and the States, or on the distribution of power and responsibilities among the various levels of government, as specified in Executive Order 13132 (64 FR 43255, August 10, 1999). Thus Executive Order 13132 does not apply to this action. This action merely proposes to approve a state rule implementing a Federal standard, and does not alter the relationship or the distribution of power and responsibilities established in the CAA. This rulemaking also is not subject to Executive Order 13045, “Protection of Children from Environmental Health Risks and Safety Risks” (62 FR 19885, April 23, 1997) because it proposes to approve a state rule implementing a Federal standard.

In reviewing SIP submissions, EPA's role is to approve state choices, provided that they meet the criteria of the CAA. In this context, in the absence of a prior existing requirement for the State to use voluntary consensus standards (VCS), EPA has no authority to disapprove a state submission for failure to use VCS. It would thus be inconsistent with applicable law for EPA when it reviews a state submission, to use VCS in place of a state submission that otherwise satisfies the provisions of the CAA. Thus, the requirements of section 12(d) of the National Technology Transfer and Advancement Act of 1995 (15 U.S.C. 272 note) do not apply. This action does not impose an information collection burden under the provisions of the Paperwork Reduction Act of 1995 (44 U.S.C. 3501 et seq.). Burden is defined at 5 CFR 1320.3(b).

List of Subjects in 40 CFR Part 52

Environmental protection, Air pollution control, Incorporation by reference, Reporting and recordkeeping requirements, Sulfur oxides.

Dated: December 21, 2017.
James B. Gulliford,
Regional Administrator, Region 7.

[FR Doc. 2018-00026 Filed 1-8-18; 8:45 am]

BILLING CODE 6560-50-P